DEPARTMENT OF HOUSING AND URBAN DEVELOPMENT

[Docket No. FR-7000-N-02]

60-Day Notice of Proposed Information Collection: Legal Instructions Concerning Applications for Full Insurance Benefits—Assignment of Multifamily Mortgages to the Secretary

AGENCY: Office of the General Counsel, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: January 25, 2019.

ADDRESSES: Interested persons are invited to submit comments regarding this proposal. Comments should refer to the proposal by name and/or OMB Control Number and should be sent to: Nacheshia Foxx, Reports Liaison Officer, Department of Housing and Urban Development, 451 Seventh Street SW, Room 10276, Washington, DC 20410-0500.

FOR FURTHER INFORMATION CONTACT: Arnette Georges, Assistant General Counsel for Multifamily Mortgage Division, Office of General Counsel, Department of Housing and Urban Development, 451 7th Street SW, Room 9230, Washington, DC 20410-0500 telephone 202-402-3826. This is not a toll-free number. Persons with hearing or speech impairments may access this number through TTY by calling the toll-free Federal Relay Service at (800) 877-8339.

Copies of available documents submitted to OMB may be obtained from Ms. Foxx.

SUPPLEMENTARY INFORMATION: This notice informs the public that HUD is seeking approval from OMB for the information collection described in Section A.

A. Overview of Information Collection

Title of Information Collection: Legal Instructions Concerning Applications for Full Insurance Benefits—Assignment of Multifamily Mortgage to the Secretary.

OMB Approval Number: 2510-0006.

Type of Request: Extension of a currently approved collection.

Form Number: N/A.

Description of the Need for the Information and Proposed Use: Mortgagees of FHA-insured mortgages may receive mortgage insurance benefits upon assignment of mortgages to the Secretary. In connection with the assignment, legal documents (e.g., mortgage, mortgage note, security agreement, title insurance policy) must be submitted to the Department. The instructions contained in the Legal Instructions Concerning Applications for Full Insurance Benefits—Assigment of Multifamily Mortgage describe the documents to be submitted and the procedures for submission.

The Legal Instructions Concerning Applications for Full Insurance Benefits—Assigment of Multifamily Mortgage, in its current form and structure, can be found at https://www.hud.gov/sites/documents/LEGINSTRFULLINSBEN.PDF.

HUD proposes to revise this document to reflect changes in the multifamily rental and healthcare programs since 2011, address physical documentation requirements for electronic UCC filings, update instructions for Section 232-insured loans that were processed under LEAN and/or portfolio structures, and other clarifying changes to reflect current HUD requiments and policies, as well as current practices in real estate, title insurance and mortgage financing transactions.

Agency Form Numbers, if Applicable: N/A.

Members of Affected Public: FHA-approved Mortgagees who have or will have multifamily rental or healthcare loans.

Estimation of the total numbers of hours needed to prepare the information collection including number of respondents, frequency of response, and hours of response:

Number of respondents | Burden hours | Frequency of response | Total burden hours
110 | 26 | Occasion | 2,860

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected;

(4) Ways to minimize the burden of the collection of information on those who are to respond; including through the use of appropriate automated collection techniques or other forms of information technology, e.g., permitting electronic submission of responses or revising the physical documentions requirements for electronically filed or issued response;

(5) Ways to reflect changes to the Security Instrument (HUD 94000M), which also serves as the Security Agreement;

(6) Ways to reflect bonds, master lease, or condominium structures in multifamily rental projects;

(7) Ways to update the instructions for assigning non-traditional loan documents (including LEAN-related documents) and acceptable recording/assignment criteria; and

(8) Ways to update the instruactions to accommodate portfolio structures and other changes in FHA's Healthcare Programs.

HUD encourages interested parties to submit comment in response to these questions.

Authority: 12 U.S.C. 1701z-1 Research and Demonstrations.

Dated: November 20, 2018.
Ariel Pereira,
Associate General Counsel for Legislation & Regulations.

[FR Doc. 2018-25656 Filed 11-23-18; 8:45 am]

BILLING CODE 4210-67-P